DEPARTMENT OF THE TREASURY

Internal Revenue Service

26 CFR Part 1

[REG-135866-02]

RIN 1545-BA93

Section 1248 Attribution Principles; Correction

AGENCY: Internal Revenue Service (IRS), Treasury.

ACTION: Notice of proposed rulemaking; correction.

SUMMARY: This document corrects a notice of proposed rulemaking (REG-135866-02) that was published in the Federal Register on Friday, June 2, 2006 (71 FR 31985) providing guidance for determining the earnings and profits attributable to stock of controlled foreign corporations (or former controlled foreign corporations) that are (were) involved in certain nonrecognition transactions.

FOR FURTHER INFORMATION CONTACT: Michael Gilman, (202) 622-3850 (not a toll-free number).

SUPPLEMENTARY INFORMATION:

Background

The notice of proposed rulemaking (REG-135866-02) that is the subject of this correction is under section 1248 of the Internal Revenue Code.

Need for Correction

As published, REG-135866-02 contains errors that may prove to be misleading and are in need of clarification.

List of Subjects in 26 CFR Part 1

Income taxes, Reporting and recordkeeping requirements.

Correction of Publication

Accordingly, the notice of proposed rulemaking (REG-135866-02) that was the subject of FR Doc. E6-8551 is corrected as follows:

PART 1—INCOME TAXES

Paragraph 1. The authority citation for part 1 continues to read in part as follows:

Authority : 26 U.S.C. 7805 * * *

Par. 2. On page 31991, instructional Par. 4. is amended by adding a new entry at the end of the amendatory instruction to read as follows:

Adding new paragraph (g).

§ 1.1248-1 [Corrected]

Par. 3. On page 31991, § 1.1248-1 is amended by adding a new paragraph (g) to read as follows:

§ 1.1248-1 Treatment of gain from certain sales or exchanges of stock in certain foreign corporations.

* * * * *

(g) Effective date. Paragraph (a)(4) and paragraph (a)(5), Example 4, of this section apply to income inclusions that occur on or after the date that paragraph and example are published as final regulations in the Federal Register.

Guy Traynor,
Chief, Publications and Regulations Branch, Legal Processing Division, Associate Chief Counsel (Procedure and Administration).

[FR Doc. E6-13119 Filed 8-11-06; 8:45 am]

BILLING CODE 4830-01-P